DEPARTMENT OF LABOR

Employment and Training Administration

[TA-W-56,415]

Osram Sylvania Company, Lake Zurich, IL; Notice of Termination of Investigation

Pursuant to Section 221 of the Trade Act of 1974, as amended, an investigation was initiated on January 27, 2005 in response to a petition filed by a company official on behalf of workers at Osram Sylvania Company, Lake Zurich, Illinois.

The petitioner has requested that the petition be withdrawn. Consequently, the investigation has been terminated.

Signed at Washington, DC this 4th day of February 2005.
Richard Church,
Certifying Officer, Division of Trade Adjustment Assistance.

[FR Doc. E5-1112 Filed 3-14-05; 8:45 am]

BILLING CODE 4510-30-P